DEPARTMENT OF AGRICULTURE

Forest Service

Forest Plan Amendments for Grizzly Bear Habitat Conservation for the Greater Yellowstone Area National Forests

AGENCY: Forest Service, USDA.

ACTION: Extension of the scoping period in conjunction with amendments of the land and resource management plans (hereafter referred to as forest plans) for the Beaverhead, Custer, and Gallatin National Forests located in the state of Montana; the Targhee National Forest located in the states of Idaho and Wyoming, and the Bridger-Teton and Shoshone National Forests located in the state of Wyoming.

SUMMARY: On July 16, 2003, the Notice of Intent to prepare an environmental impact statement was published in Federal Register Vol. 68, No. 136, pages 41999 and 41220, for the proposal to amend six forest plans to provide additional programmatic direction for management of grizzly bear habitat security, developed sites, and livestock within the Grizzly Bear Recovery Area. The 30-day comment period ended August 15, 2003. Interested parties have requested that the comment period be extended so they can provide more substantive, researched comments. The Forest Service has agreed to extend the comment period for an additional 18 days until September 2, 2003.

The July 16, 2003 Federal Register notice of intent shows the date of the Forest Supervisor's signature at the end of the notice as July 20, 2003; that date contained a minor typo. The correct date was July 10, 2003.

DATES: Comments concerning the scope of the analysis must be received on or before September 2, 2003.

ADDRESSES: Send written comments to Dave Cawrse, Team Leader, Grizzly Bear Habitat Amendments, Shoshone National Forest, 808 Meadow Lane Avenue, Cody, WY 82414-4549. Comments may be e-mailed to comments-rocky-mountain-shoshone@fs.fed.us.

FOR FURTHER INFORMATION CONTACT: Dave Cawrse, Team Leader, telephone (307) 527-6241.

SUPPLEMENTARY INFORMATION: The scoping period has been extended to September 2, 2003, to provide additional time for public comment. Written comments identifying issues for analysis and the range of alternatives are encouraged. More information is available at http://www.fs.fed.us/r1/wildlife/igbc/Subcommittee/yes/YEamend/gb_internet.htm.

Dated: August 6, 2003.
Rebecca Aus,
Forest Supervisor.

[FR Doc. 03-20481 Filed 8-11-03; 8:45 am]

BILLING CODE 3410-11-M